DEPARTMENT OF JUSTICE

Bureau of Prisons

28 CFR Part 548

[BOP-1105-F]

RIN 1120-AB04

Religious Beliefs and Practices: Nomenclature Change

AGENCY: Bureau of Prisons, Justice.

ACTION: Final rule.

SUMMARY: The Bureau amends its regulations on religious beliefs and practices to rename the special diet with which it accommodates inmates' religious dietary practices. The special diet, formerly known as the common fare menu, will now be called the religious diet menu. This change in name is necessary in order to reflect more equitably the variety of faith groups with religious dietary needs.

EFFECTIVE DATE: December 29, 2003.

ADDRESSES: Rules Unit, Office of General Counsel, Bureau of Prisons, HOLC Room 754, 320 First Street, NW., Washington, DC 20534.

FOR FURTHER INFORMATION CONTACT: Sarah Qureshi, Office of General Counsel, Bureau of Prisons, phone (202) 307-2105.

SUPPLEMENTARY INFORMATION: The Bureau of Prisons (Bureau) amends its regulations on religious beliefs and practices (28 CFR part 548). We published a final rule on this subject in the Federal Register on September 6, 1995 (60 FR 46486) and amended it on August 22, 1997 (62 FR 44836).

What Change Is the Bureau Making?

The Bureau's regulations on religious dietary practices (§ 548.20) note that inmate requests to observe religious dietary practices are addressed through a common fare menu or program. The Bureau renames the “common fare menu or program” as “the religious diet menu or program”.

Why Is the Bureau Making This Change?

The common fare menu originated in 1983 as a pilot program designed to meet the needs of Jewish and Muslim inmates. The menu used food acceptable (or “common”) to both religious groups to meet nutritional standards. The number of religious groups within the inmate population has increased during the last few years. The increase in the number of religious groups has also increased the variety in religious dietary needs.

In equitably addressing the varied needs of the inmate population, we believe that it is more accurate to say that we offer a religious diet program rather than a program which emphasizes the commonality of a menu for two of the faith groups.

From a more technical point of view, the change in nomenclature will result in the more consistent use in the regulations of the phrases “religious diet menu” and “religious diet program”.

Who Does This Change Affect?

While the regulations apply to Federal inmates housed in Bureau facilities, no one is materially affected because the rule merely changes the name of a program.

Because the change is merely a nomenclature change, we find good cause for exempting the provisions of the Administrative Procedure Act (5 U.S.C. 553) requiring notice of proposed rulemaking, the opportunity for public comment, and delay in effective date. If you would like to comment, you may submit comments on this rule by writing to the previously cited address. We will consider these comments but will not respond to them in the Federal Register.

Executive Order 12866

This regulation has been drafted and reviewed in accordance with Executive Order 12866, “Regulatory Planning and Review”, section 1(b), Principles of Regulation. The Department of Justice has determined that this rule is not a “significant regulatory action” under Executive Order 12866, section 3(f), and accordingly this rule has not been reviewed by the Office of Management and Budget.

Executive Order 13132

This regulation will not have substantial direct effects on the States, on the relationship between the National government and the States, or on distribution of power and responsibilities among the various levels of government. Therefore, in accordance with Executive Order 13132, it is determined that this rule does not have sufficient federalism implications to warrant the preparation of a Federalism Assessment.

Regulatory Flexibility Act

The Director of the Bureau of Prisons, in accordance with the Regulatory Flexibility Act (5 U.S.C. 605(b)), has reviewed this regulation and by approving it certifies that this regulation will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 548

Prisoners.

Harley G. Lappin,
Director, Bureau of Prisons.

Under the rulemaking authority vested in the Attorney General in 5 U.S.C. 552(a) and delegated to the Director, Bureau of Prisons, we amend part 548 in subchapter C of 28 CFR, chapter V as follows.

SUBCHAPTER C—INSTITUTIONAL MANAGEMENT

PART 548—RELIGIOUS PROGRAMS

1. The authority citation for 28 CFR part 548 continues to read as follows:

Authority: 5 U.S.C. 301; 18 U.S.C. 3621, 3622, 3624, 4001, 4042, 4081, 4082 (Repealed in part as to offenses committed on or after November 1, 1987), 5006-5024 (Repealed October 12, 1984 as to offenses committed after that date), 5039; 28 U.S.C. 509, 510; 42 U.S.C. 1996; 28 CFR 0.95-0.99.

§ 548.20 [Amended]

2. Revise the phrase “common fare” in the first and second sentences of paragraph (a) and in the first sentence of paragraph (b) to read “religious diet''.

[FR Doc. 03-31703 Filed 12-24-03; 8:45 am]

BILLING CODE 4410-05-P